FEDERAL MARITIME COMMISSION

Sunshine Act Meetings

TIME AND DATE: July 28, 2021; 10:00 a.m.

PLACE: This meeting will be held by video-conference only.

STATUS: Part of this meeting will be open to the public and will be streamed live, accessible from www.fmc.gov. The rest of the meeting will be closed to the public.

PORTIONS OPEN TO THE PUBLIC:

1. Commissioner Bentzel, Update on Equipment Manufacturing and Availability Research

2. Commissioner Dye, Interim Recommendations International Ocean Transportation Supply Chain Engagement, Fact Finding 29

3. Passenger Vessel Financial Responsibility

PORTIONS CLOSED TO THE PUBLIC:

1. Investigation into Conditions Created by Canadian Ballast Water Regulations in the U.S./Canada Great Lakes Trade

CONTACT PERSON FOR MORE INFORMATION: Rachel Dickon, Secretary, (202) 523-5725.

Authority: 5 U.S.C. 552b.

Rachel Dickon,
Secretary.

[FR Doc. 2021-15880 Filed 7-23-21; 4:15 pm]

BILLING CODE 6730-02-P